DEPARTMENT OF LABOR

Employment and Training Administration

[TA-W-81,538]

State Journal Register, Camera and Plate Department, Springfield, IL; Notice of Affirmative Determination Regarding Application for Reconsideration

By application dated August 24, 2012, a worker requested administrative reconsideration of the negative determination regarding workers' eligibility to apply for Trade Adjustment Assistance (TAA) applicable to workers and former workers of State Journal Register, Camera and Plate Department, Springfield, Illinois. The determination was issued on July 26, 2012. The Department's Notice of determination was published in the Federal Register on August 9, 2012 (77 FR 47674). The workers' firm is engaged in activities related to the production of a daily newspaper. The subject worker group performs image manipulation for publication.

The initial investigation resulted in a negative determination based on the findings that a significant number or proportion of workers at State Journal Register, Camera and Plate Department, Springfield, Illinois has not been totally or partially separated, or threatened with such separation, and that the criteria of Section 222(e) of the Trade Act, as amended, have not been met.

The request for reconsideration states that the dislocated workers were part of the “Pre-Press Imaging Department” of State Journal Register, Springfield, Illinois.

A careful review of the existing record has revealed that the petition was filed on behalf of “Camera/Plate-Prepress-Imaging, Ad Srvs. & Market” workers at State Journal Register, Springfield, Illinois who were affected by the shift of “advertising ad work” to a foreign country.

The Department will conduct further investigation to clarify the subject worker group and to determine if workers have met the eligibility requirements of the Trade Act of 1974, as amended.

Conclusion

After careful review of the application, I conclude that the claim is of sufficient weight to justify reconsideration of the U.S. Department of Labor's prior decision. The application is, therefore, granted.

Signed at Washington, DC, this 12th day of September 2012.
Del Min Amy Chen,
Certifying Officer, Office of Trade Adjustment Assistance.

[FR Doc. 2012-23578 Filed 9-24-12; 8:45 am]

BILLING CODE 4510-FN-P